DEPARTMENT OF HEALTH AND HUMAN SERVICES

Centers for Disease Control and Prevention

[30 day-34-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Linking Epidemiologic Research to Disease Prevention: A Pilot Program to Test Approaches for Communicating Increased Risk of Cervical Cancer to Female Workers in the Dry-Cleaning Industry—NEW—National Institute for Occupational Safety and Health (NIOSH), Centers for Disease Control and Prevention (CDC).

The National Institute for Occupational Safety and Health (NIOSH) has conducted worker notification formally since 1988. This program informs workers in NIOSH-conducted epidemiological studies about the study results and hence, of their risks. The intervention research to be conducted under this application will extend the risk communication beyond the mortality study cohort (an aging and mostly retired cohort) to similarly exposed women, younger and still employed.

Several studies, including one conducted at NIOSH, have documented elevated mortality from cancer among dry cleaning workers. Some of the cancers involved—most notably cervical cancer—can be successfully treated if detected early. Thus, along with better hazard control, better secondary disease prevention is urgently needed to help women workers already exposed. Exiting NIOSH procedures for notifying workers about the agency's research findings seem unlikely to reach the larger at-risk population of women dry cleaners who were not actually study subjects.

The ultimate purpose of this research is to increase understanding of how to encourage medical screening among workers at risk. The project has two main objectives: (1) To assess descriptively the feasibility and potential public health benefits of a broader than usual approach to NIOSH worker notification about occupational health risks, based on results of NIOSH epidemiologic research; and (2) to determine whether a follow-up reminder about the importance of medical screening makes a significant difference in the notified workers' long-term health behavior.

The primary study population will consist of a minimum 300 current female dry cleaning workers in New York City (ages 18-65), selected from the membership list (a respondent universe of 375) from the dry cleaners' local labor union. A separate population of 100 former dry cleaning workers randomly selected from a cohort list of approximately 226 surviving women dry cleaners in a NIOSH cohort mortality study will provide descriptive data only and will not be included in the data analysis of the primary group of currently employed dry cleaners. All study participants will be mailed a packet of risk information from NIOSH, along with a letter of endorsement of the study from the local union in New York, encouraging participation in the study. The risk information packet will include the NIOSH mortality study results as well as other information about cancer and cancer screening, with a special emphasis on cervical cancer screening.

Brief (15-minute) telephone interviews will follow the mailed notifications to workers and will be used to evaluate (1) the effects of an intervention (mailed written notification materials) on post-intervention cervical cancer screening behaviors; and (2) the effects of a reminder message mailed six months after the initial notification.

The effect of the first intervention will be measured by comparing the pre-and post-intervention screening behaviors for the year prior to the intervention. The effect of the second intervention will be evaluated experimentally (using a control group), measuring the screening behaviors from the time of the reminder letter to the Time-2 interview 6 months later, compared to the screening behaviors at the Time-1 interview. These intervention evaluations will address barriers to cervical screening and also will allow insight into the following questions:

1. Does the outreach message have a long-term impact concerning the use of cancer screening services (message retention and actual screening behavior)?

2. Does receiving a screening reminder affect message retention and actual screening behavior?

The annualized burden for this collection is 253.3 hours.

Respondents | Number of respondents | Number of responses | Avg. burden per response (in hrs.)
Year 1 | 400 | 1 | 20/60
Year 2 | 360 | 1 | 20/60

Dated: April 23, 2001.
Nancy Cheal,
Acting Associate Director for Policy, Planning and Evaluation, Centers for Disease Control and Prevention, (CDC).

[FR Doc. 01-10733 Filed 4-30-01; 8:45 am]

BILLING CODE 4163-18-P